DEPARTMENT OF COMMERCE

International Trade Administration

[C-428-817]

Certain Corrosion-Resistant Carbon Steel Flat Products and Cut-to-Length Carbon Steel Plate Products From Germany: Initiation of Countervailing Duty Changed Circumstances Reviews

AGENCY: Import Administration, International Trade Administration, Department of Commerce.

ACTION: Notice of initiation of countervailing duty changed circumstances reviews.

SUMMARY: In response to the October 22, 2003, request by International Steel Group, Inc. (purchaser of Bethlehem Steel Corporation) and United States Corporation, the domestic producers in these cases, the Department of Commerce (the Department) is initiating changed circumstances countervailing duty reviews of the countervailing duty orders on certain corrosion-resistant carbon steel flat products and cut-to-length carbon steel plate products from Germany. The domestic producers have expressed no further interest in the relief provided by the countervailing duty orders. Interested parties are invited to comment on this notice of initiation.

EFFECTIVE DATE: December 3, 2003.

FOR FURTHER INFORMATION CONTACT: Robert Copyak, Office of AD/CVD Enforcement VI, Import Administration, International Trade Administration, U.S. Department of Commerce, 14th Street and Constitution Avenue, NW., Washington, DC 20230; telephone (202) 482-2209.

SUPPLEMENTARY INFORMATION:

Background

On August 17, 1993, the Department published countervailing duty orders on certain corrosion-resistant carbon steel flat products and cut-to-length carbon steel plate products from Germany. See Countervailing Duty Orders and Amendment to Final Affirmative Countervailing Duty Determinations: Certain Steel Products From Germany, 58 FR 43756 (August 17, 1993). On October 22, 2003, International Steel Group, Inc. (purchaser of Bethlehem Steel Corporation) and United States Corporation, requested that the Department revoke the countervailing duty orders, effective April 1, 2004, based on their lack of further interest.

Scope of the Orders

The products covered by these reviews are certain corrosion-resistant carbon steel flat products and cut-to-length steel plate products from Germany.

(1) Certain corrosion-resistant carbon steel flat products: The scope of countervailing duty order of certain corrosion-resistant carbon steel flat products (corrosion-resistant) includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.31.0000, 7210.39.0000, 7210.41.0000, 7210.49.0030, 7210.49.0090, 7210.60.0000, 7210.70.6030, 7210.70.6060, 7210.70.6090, 7210.90.1000, 7210.90.6000, 7210.90.9000, 7212.21.0000, 7212.29.0000, 7212.30.1030, 7212.30.1090, 7212.30.3000, 7212.30.5000, 7212.40.1000, 7212.40.5000, 7212.50.0000, 7212.60.0000, 7215.90.1000, 7215.90.5000, 7217.12.1000, 7217.13.1000, 7217.19.1000, 7217.19.5000, 7217.22.5000, 7217.23.5000, 7217.29.1000, 7217.29.5000, 7217.32.5000, 7217.33.5000, 7217.39.1000, and 7217.39.5000. Included in this scope are flat-rolled products of non-rectangular cross-section where such cross-section is achieved subsequent to the rolling process (i.e., products which have been worked after rolling)—for example, products which have been beveled or rounded at the edges. Excluded from this scope are flat-rolled steel products either plated or coated with tin, lead, chromium, chromium oxides, both tin and lead (terne plate), or both chromium and chromium oxides (tin-free steel), whether or not painted, varnished or coated with plastics or other nonmetallic substances in addition to the metallic coating. Also excluded from this scope are clad products in straight lengths of 0.1875 inch or more in composite thickness and of a width which exceeds 150 millimeters and measures at least twice the thickness. Also excluded from this scope are certain clad stainless flat-rolled products, which are three-layered corrosion-resistant carbon steel flat-rolled products less than 4.75 millimeters in composite thickness that consist of a carbon steel flat-rolled product clad on both sides with stainless steel in a “20 percent-60 percent-20 percent” ratio. On September 22, 1999, the Department issued the final results of a changed circumstances review and revoked the order with respect to certain corrosion-resistant steel. See Notice of Final Results of Changed Circumstances Antidumping Duty and Countervailing Duty Reviews and Revocation of Orders in Part: Certain Corrosion-Resistant Carbon Steel Flat Products From Germany, 64 FR 51292 (September 22, 1999). The Department noted that the affirmative statement of no interest by petitioners, combined with the lack of comments from interested parties, is sufficient to warrant partial revocation. This partial revocation applies to certain corrosion-resistant deep-drawing carbon steel strip, roll-clad on both sides with aluminum (AlSi) foils in accordance with St3 LG as to EN 10139/10140. The merchandise's chemical composition encompasses a core material of U St 23 (continuous casting) in which carbon is less than 0.08 percent; manganese is less than 0.30 percent; phosphorous is less than 0.20 percent; sulfur is less than 0.015 percent; aluminum is less than 0.01 percent; and the cladding material is a minimum of 99 percent aluminum with silicon/copper/iron of less than 1 percent. The products are in strips with thicknesses of 0.07mm to 4.0mm (inclusive) and widths of 5mm to 800mm (inclusive). The thickness ratio of aluminum on either side of steel may range from 3 percent/94 percent/3 percent to 10 percent/80 percent/10 percent.

(2) Certain cut-to-length carbon steel plate products: The scope of countervailing duty order on certain cut-to-length carbon steel plate products (cut-to-length steel) includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included are flat-rolled products of non-rectangular cross-section where such cross-section is achieved subsequent to the rolling process (i.e., products which have been worked after rolling) for example, products which have been beveled or rounded at the edges. Excluded is grade X-70 plate. On August 25, 1999, the Department issued the final results of a changed-circumstances review revoking the order in part, with respect to certain carbon cut-to-length steel plate with a maximum thickness of 80 mm in steel grades BS 7191, 355 EM and 355 EMZ, as amended by Sable Offshore Energy Project Specification XB MOO Y 15 0001, types 1 and 2. See Certain Cut-to-Length Carbon Steel Plate from Finland, Germany, and United Kingdom: Final Results of Changed Circumstances Antidumping Duty and Countervailing Duty Reviews, and Revocation of Orders in Part, 64 FR 46343 (August 25, 1999).

The HTS item numbers are provided for convenience and custom purposes. The written description remains dispositive.

Initiation of Changed Circumstances Reviews

Pursuant to section 751(d)(1) of the Tariff Act of 1930, as amended (the Act) the Department may revoke a countervailing duty order based on a review under section 751(b) of the Act (i.e., a changed circumstances review). Section 751(b)(1) of the Act requires a changed circumstances review to be conducted upon receipt of a request containing information concerning changed circumstances sufficient to warrant a review. Section 351.222(g) of the Department's regulations provides that the Department will conduct a changed circumstances review under 19 CFR 351.216, and may revoke an order in whole or in part, if it determines that the producers accounting for substantially all of the production of the domestic like product have expressed a lack of interest in the order, in whole or in part. See section 782(h) of the Act and section 351.222g(1) of the Department's regulations. In the event that the Department concludes that expedited action is warranted, sections 351.221(c)(3)(ii) and 351.222(f)(2)(iv) of the regulations permit the Department to combine the notices of initiation and preliminary results.

The domestic producers state that they are producers of certain corrosion-resistant carbon steel flat products and cut-to-length carbon steel plate products but do not identify the percentages of production of the domestic like products they represent. At present, the Department has no information on the record that the other known domestic producers have no interest in maintaining the countervailing duty orders with respect to the subject merchandise imported from Germany. In particular, the Department does not have information on the record of these changed circumstances reviews indicating that the domestic producers requesting this review account for substantially all, or at least 85 percent, of the production of the domestic like products. See Certain Tin Mill Products from Japan: Final Results of Changed Circumstances Review, 66 FR 52109 (October 12, 2001); see, also, 19 CFR 351.208(c). Accordingly, we are not combining this initiation with a preliminary determination, pursuant to 19 CFR 351.221(c)(3)(ii). This notice of initiation will accord all interested party an opportunity to address this proposed revocation.

In accordance with sections 751(b) of the Act and 19 CFR 351.216, 351.221, and 351.222, based on an affirmative statement of no interest by the domestic parties in continuing the countervailing duty orders with respect to certain corrosion-resistant carbon steel flat products and cut-to-length carbon steel plate products from Germany, as described above, we are initiating these changed circumstances administrative reviews.

If, as a result of these reviews, we revoke the orders, we intend to instruct U.S. Customs and Border Protection (CBP) to end the suspension of liquidation of the subject merchandise on the effective date of the final notice of revocation, and to refund any estimated countervailing duties collected, for all unliquidated entries of such merchandise made on or after April 1, 2004. We will also instruct CBP to pay interest on such refunds in accordance with section 778 of the Act. The current requirement for a cash deposit of estimated countervailing duties on the subject merchandise will continue until publication of the final results of these changed circumstances reviews.

Public Comment

Interested parties are invited to comment on the initiation of these changed circumstances reviews. Parties who submit argument in this proceeding are requested to submit with the argument (1) a statement of the issue, and (2) a brief summary of the argument. All written comments may be submitted by interested parties not later than 14 days after the date of publication of this notice in accordance with 19 CFR 351.303, with the exception that only three (3) copies need to be served on the Department, and shall be served on all interested parties on the Department's service list in accordance with 19 CFR 351.303.

The Department will publish in the Federal Register a notice of preliminary results of changed circumstances reviews, in accordance with 19 CFR 351.221(c)(3), which will set forth the factual and legal conclusions upon which our preliminary results are based, and a description of any action proposed based on those results.

This notice is in accordance with section 751(b)(1) of the Act (19 U.S.C. 1675(b)), and 19 CFR 351.216, 351.221, and 351.222.

Dated: November 26, 2003.
James J. Jochum,
Assistant Secretary for Import Administration.

[FR Doc. 03-30125 Filed 12-2-03; 8:45 am]

BILLING CODE 3510-DS-P